DEPARTMENT OF THE INTERIOR

Bureau of Reclamation

[RR83550000, 189R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

PACIFIC NORTHWEST REGION: Bureau of Reclamation, 1150 North Curtis Road, Suite 100, Boise, Idaho 83706-1234, telephone 208-378-5344.

Executed contract:

16. Talent, Medford, and Rogue River Valley IDs; Rogue River Basin Project; Oregon: Contracts for repayment of reimbursable shares of SOD program modifications for Howard Prairie Dam. Contract executed on January 18, 2018.

MID-PACIFIC REGION: Bureau of Reclamation, 2800 Cottage Way, Sacramento, California 95825-1898, telephone 916-978-5250.

New contract actions:

50. Santa Barbara County Water Agency, Cachuma Project, California: Negotiation and execution of a long-term water service contract.

51. Cachuma Operations and Maintenance Board, Cachuma Project, California: Negotiation and execution of an O&M contract.

52. State of California, Department of Water Resources; CVP; California: Negotiation of a multi-year wheeling agreement with the State of California, Department of Water Resources providing for the conveyance and delivery of CVP water through the State of California's water project facilities to Byron-Bethany ID (Musco Family Olive Company), Del Puerto WD, and the San Joaquin Valley National Cemetery.

Discontinued contract actions:

21. Goleta WD, Cachuma Project, California: An agreement to transfer title of the federally owned distribution system to the District subject to approved legislation.

29. San Joaquin Valley National Cemetery, U.S. Department of Veteran Affairs; Delta Division, CVP; California: Negotiation of a multi-year wheeling agreement with a retroactive effective date of 2011 is pending. A wheeling agreement with the State of California Department of Water Resources provides for the conveyance and delivery of CVP water through the State of California's water project facilities to the San Joaquin Valley National Cemetery.

30. Byron-Bethany ID, CVP, California: Negotiation of a multi-year wheeling agreement with a retroactive effective date is pending. A wheeling agreement with the State of California Department of Water Resources provides for the conveyance and delivery of CVP water through the State of California's water project facilities, to the Musco Family Olive Company, a customer of Byron-Bethany ID.

35. Langell Valley ID, Klamath Project; Oregon: Title transfer of lands and facilities of the Klamath Project.

49. Del Puerto WD, CVP, California: Negotiation of a short-term wheeling agreement with the State of California, Department of Water Resources to provide for the conveyance and delivery of CVP water through the State of California's water project facilities to Del Puerto Water District via a state water project contractor.

Completed contract actions:

38. Orland Unit Water User's Association, Orland Project, California: Title transfer of lands and features of the Orland Project. Title transfer was executed on October 6, 2014.

48. Washoe County Water Conservation District, Truckee Storage Project, Nevada: Repayment contract for costs associated with SOD work on Boca Dam. Contract executed on May 17, 2018.

LOWER COLORADO REGION: Bureau of Reclamation, P.O. Box 61470 (Nevada Highway and Park Street), Boulder City, Nevada 89006-1470, telephone 702-293-8192.

New contract action:

20. Basic Water Company, BCP, Nevada: Approve an acknowledgment of assignment of rights, interests, and obligations under contract No. 14-06-300-2083, as amended, from Tronox LLC to EMD Acquisition.

Modified contract actions:

3. Bard WD, Yuma Project, California: Consolidate Bard WD's O&M contracts for the Yuma Project, California, Reservation Division, Indian Unit and Bard Unit; to reflect updated Reclamation policies and procedures.

4. Ogram Farms, BCP, Arizona: Review and approve a proposed assignment of Ogram Farms' Colorado River delivery contract for 480 acre-feet of water per year to Larry and Gina Ott and Lee C. and Candace M. Ott, and execute a new Colorado River water delivery contract with the assignees for the assigned amount 480 acre-feet of water per year.

Completed contract actions:

12. Mohave County Water Authority, BCP, Arizona: Execute Exhibit B, Revision 6 that will supersede and replace Exhibit B, Revision 5 to the Authority's Colorado River water delivery contract in order to update the annual diversion amounts to be used within each of the contract service areas. Contract executed on December 22, 2017.

14. Sarah S. Chesney, BCP, Arizona: Review and approve a proposed assignment of Sarah S. Chesney's contract for the conveyance of Colorado River water from Sarah S. Chesney to WPI II—COL FARM AZ, LLC. Contract executed on March 14, 2018.

16. San Carlos Apache Tribe and the Town of Gilbert, CAP, Arizona: Execute amendment No. 7 to a CAP water lease to extend the term of the lease in order for San Carlos Apache Tribe to lease 20,000 acre-feet of its CAP water to the Town of Gilbert during calendar year 2018. Contract executed on February 5, 2018.

17. Fort McDowell Yavapai Nation and the Town of Gilbert, CAP, Arizona: Execute amendment No. 6 to a CAP water lease to extend the term of the lease in order for Fort McDowell Yavapai Nation to lease 13,933 acre-feet of its CAP water to the Town of Gilbert during calendar year 2018. Contract executed on January 8, 2018.

18. San Carlos Apache Tribe and the Pascua Yaqui Tribe, CAP, Arizona: Execute a CAP water lease in order for the San Carlos Apache Tribe to lease 500 acre-feet of its CAP water to the Pascua Yaqui Tribe during calendar year 2018. Contract executed on February 5, 2018.

UPPER COLORADO REGION: Bureau of Reclamation, 125 South State Street, Room 8100, Salt Lake City, Utah 84138-1102, telephone 801-524-3864.

Completed contract actions:

4. Bridger Valley Water Conservancy District, Lyman Project, Wyoming: The District has requested that its Meeks Cabin repayment contract be amended from two 25-year contacts to one 40-year contract, or that the second 25-year contract be negotiated, as outlined in the original contract. Contract executed on February 21, 2018.

13. Uintah Water Conservancy District; Vernal Unit, CUP; Utah: Due to sloughing on the face of Steinaker Dam north of Vernal, Utah, a SOD fix authorized under the SOD Act may be necessary to perform the various functions needed to bring Steinaker Reservoir back to full capacity. This will require a repayment contract with the United States. Contract executed on February 21, 2018.

GREAT PLAINS REGION: Bureau of Reclamation, P.O. Box 36900, Federal Building, 2021 4th Avenue North, Billings, Montana 59101, telephone 406-247-7752.

New contract actions:

29. Frenchman-Cambridge ID; Frenchman-Cambridge Division, P-SMBP; Nebraska: Consideration of a project use power contract and a repayment contract for Frenchman-Cambridge ID's share of the assigned reimbursable P-SMBP assigned power investment costs.

30. Mid-Dakota Rural Water System, Inc., South Dakota: Consideration of an amendment to agreement No. 5-07-60-W0223 to reflect the payoff of loans.

31. Kansas Bostwick ID; Bostwick Division, P-SMBP; Kansas: Consideration of an amendment to contract No. 16XX630077 to reflect the actual annual expenditures.

32. Bostwick ID; Bostwick Division, P-SMBP; Nebraska: Consideration of an amendment to contract No. 16XX630076 to reflect the actual annual expenditures.

33. Cody Canal ID, Shoshone Project, Wyoming: Consideration of an amendment to long-term agreement No. 9-AB-60-00060 to extend the term for 30 years.

Completed contract actions:

28. Kansas Bostwick ID, Bostwick Division, P-SMBP, Kansas: Consideration of an excess capacity contract to store water in Harlan County Lake. Contract executed on December 26, 2017.

29. Frenchman-Cambridge ID; Frenchman-Cambridge Division, P-SMBP; Nebraska: Consideration of a project use power contract and a repayment contract for

Frenchman-Cambridge ID's share of the assigned reimbursable P-SMBP assigned power investment costs. Contract executed on May 29, 2018.

Dated: June 20, 2018.
Ruth Welch,
Director, Policy and Administration.

[FR Doc. 2018-16640 Filed 8-2-18; 8:45 am]

BILLING CODE 4332-90-P